DEPARTMENT OF COMMERCE

National Oceanic and Atmospheric Administration

DEPARTMENT OF THE INTERIOR

Fish and Wildlife Service

RIN 0648-XI12

Endangered and Threatened Species; Recovery Plans; Recovery Plan for the Northwest Atlantic Population of the Loggerhead Sea Turtle

AGENCIES: National Marine Fisheries Service (NMFS), National Oceanic and Atmospheric Administration (NOAA), Commerce; Fish and Wildlife Service (USFWS), Interior.

ACTION: Notice of availability; request for comments.

SUMMARY: We, NMFS and USFWS, announce the availability for public review of the draft Recovery Plan (Plan) for the Northwest Atlantic Population of the Loggerhead Sea Turtle (Caretta caretta). We are soliciting review and comment on the Plan from the public and all interested parties, including state and local governments, and national governments beyond the U.S. whose actions may contribute to the conservation and recovery of the loggerhead turtle in the Northwest Atlantic. We will consider all substantive comments received during the review period before submitting the Plan for final approval.

DATES: Comments on the draft Plan must be received by close of business on July 29, 2008.

ADDRESSES: Send comments by any one of the following methods.

(1) Electronic Submissions: Submit all electronic comments via e-mail to: seaturtle@fws.gov. Include in the subject line of the e-mail the following identifier: Comments on Northwest Atlantic Loggerhead Recovery Plan. Attachments to electronic comments will be accepted in Microsoft Word, Excel, WordPerfect, or Adobe PDF file formats only.

(2) Mail: NMFS National Sea Turtle Coordinator, Attn: Draft Loggerhead Recovery Plan, Office of Protected Resources, National Marine Fisheries Service, 1315 East-West Highway, Room 13657, Silver Spring, MD 20910 or USFWS National Sea Turtle Coordinator, U.S. Fish and Wildlife Service, 6620 Southpoint Drive South, Suite 310, Jacksonville, FL 32216.

(3) Fax: 301-713-0376, Attn: NMFS National Sea Turtle Coordinator.

FOR FURTHER INFORMATION CONTACT: Barbara Schroeder (ph. 301-713-1401, fax 301-713-0376) or Sandy MacPherson (ph. 904-232-2580).

SUPPLEMENTARY INFORMATION:

Availability of the Draft Recovery Plan

Interested persons may obtain the Plan for review on the Internet at http://www.nmfs.noaa.gov/pr/recovery/plans.htm or http://www.fws.gov/northflorida/SeaTurtles/loggerhead-recovery/default-loggerhead.htm or by contacting Barbara Schroeder or Sandy MacPherson [see FOR FURTHER INFORMATION CONTACT].

Background

The Endangered Species Act of 1973 (15 U.S.C. 1531 et seq.) requires that NMFS and USFWS develop and implement recovery plans for the conservation and survival of threatened and endangered species under their jurisdiction, unless it is determined that such plans would not promote the conservation of the species. This Plan discusses the natural history, current status, and the known and potential threats to the loggerhead turtle in the Northwest Atlantic. The Plan lays out a recovery strategy to address the potential threats based on the best available science and includes recovery goals and criteria. The Plan is not a regulatory action, but presents guidance for use by agencies and interested parties to assist in the recovery of loggerhead turtles. The Plan identifies substantive actions needed to achieve recovery by addressing the threats to the species. Recovery of loggerhead turtles in the Northwest Atlantic is a long-term effort and will require cooperation and coordination of Federal, state, and local government agencies, and the community, as well as international cooperation. NMFS and USFWS will consider all substantive comments and information presented during the public comment period in the course of finalizing this Plan.

Dated: May 20, 2008.
James H. Lecky,
Director, Office of Protected Resources, National Marine Marine Service.

Dated: May 9, 2008.
Franklin J. Arnold III,
Acting Regional Director, Southeast Region, Fish and Wildlife Service.

[FR Doc. E8-12132 Filed 5-29-08; 8:45 am]

BILLING CODE 3510-22-S